DEPARTMENT OF STATE

[Public Notice: 5794]

60-Day Notice of Proposed Information Collection: Voluntary Disclosures; OMB Control Number 1405-XXXX

ACTION: Notice of request for public comment.

SUMMARY: The Department of State is seeking Office of Management and Budget (OMB) approval for information collection described below. The purpose of this notice is to allow 60 days for public comments in the Federal Register preceding submission to OMB of the Form DS-4048 as the means of collecting the information. We are conducting this process in accordance with the Paperwork Reduction Act of 1995.

• Title of Information Collection: Voluntary Disclosures.

• OMB Control Number: 1405-XXXX.

• Type of Request: Existing Collection in Use without an OMB Control Number.

• Originating Office: Bureau of Political-Military Affairs, Directorate of Defense Trade Controls, PM/DDTC.

• Form Number: No Form.

• Respondents: Business organizations.

• Estimated Number of Respondents: 400 (total).

• Estimated Number of Responses: 400 (per year).

• Average Hours Per Response: 10 hours.

• Total Estimated Burden: 4,000 hours (per year).

• Frequency: On Occasion.

• Obligation to Respond: Voluntary.

DATES: The Department will accept comments from the public up to 60 days from May 15, 2007.

ADDRESSES: Comments and questions should be directed to Patricia C. Slygh, the Acting Director of the Office of Defense Trade Controls Management, Department of State, who may be reached via the following methods:

• E-mail: slyghpc@state.gov.

• Mail: Patricia C. Slygh, SA-1, 12th Floor, Directorate of Defense Trade Controls, Bureau of Political-Military Affairs, U.S. Department of State, Washington, DC 20522-0112

• Fax: 202-261-8199

You must include the information collection title in the subject lines of your message/letter.

FOR FURTHER INFORMATION CONTACT: Direct requests for additional information regarding the collection listed in this notice, including requests for copies of the information collection and supporting documents, to Patricia C. Slygh, PM/DDTC, SA-1, 12th Floor, Directorate of Defense Trade Controls, Bureau of Political-Military Affairs, U.S. Department of State, Washington, DC 20522-0112, who may be reached via e-mail at slyghpc@state.gov.

SUPPLEMENTARY INFORMATION: We are soliciting public comments to permit the Department to:

• Evaluate whether the proposed collection of information is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: Section 127.12 of the International Traffic in Arms Regulations (ITAR) encourages the disclosure of information to the Directorate of Defense Trade Controls when there has been a violation of the Arms Export Control Act (AECA), ITAR, order, license, or other authorization issued under the AECA. The violation is analyzed to determine the harm to the U.S. national security and foreign policy interests.

Methodology: These information collections may be sent to the Directorate of Defense Trade Controls via the following methods: mail, personal delivery, e-mail, and/or fax.

Dated: April 13, 2007.
Robert W. Maggi,
Acting Deputy Assistant Secretary for Defense Trade Controls, Bureau of Political-Military Affairs, Department of State.

[FR Doc. E7-9282 Filed 5-14-07; 8:45 am]

BILLING CODE 4710-25-P